DEPARTMENT OF ENERGY

Federal Energy Regulatory Commission

Combined Notice of Filings #1

May 3, 2010.

Take notice that the Commission received the following exempt wholesale generator filings:

Docket Numbers: EG10-37-000.

Applicants: TX Solar I LLC.

Description: Notice of Self-Certification of Exempt Wholesale Generator Status of TX Solar I LLC.

Filed Date: 04/30/2010.

Accession Number: 20100430-5151.

Comment Date: 5 p.m. Eastern Time on Friday, May 21, 2010.

Take notice that the Commission received the following electric rate filings:

Docket Numbers: ER01-1699-010.

Applicants: Pilot Power Group, Inc.

Description: Pilot Power Group, Inc submits a request for Category 1 Seller Status Classification Pursuant to Order No. 697 etc.

Filed Date: 04/30/2010.

Accession Number: 20100430-0238.

Comment Date: 5 p.m. Eastern Time on Friday, May 21, 2010.

Docket Numbers: ER10-720-002.

Applicants: Northeastern Power Company.

Description: Northeastern Power Company's Refund Report.

Filed Date: 05/03/2010.

Accession Number: 20100503-5074.

Comment Date: 5 p.m. Eastern Time on Monday, May 24, 2010.

Docket Numbers: ER10-1127-001.

Applicants: Florida Power Corporation.

Description: Florida Power Corp submits correction to Amendment to the Cost-Based Sales Agreement with City of Mount Dora, FL.

Filed Date: 04/30/2010.

Accession Number: 20100430-0237.

Comment Date: 5 p.m. Eastern Time on Friday, May 21, 2010.

Docket Numbers: ER10-1139-000.

Applicants: Ameren Energy Marketing Company.

Description: Ameren Energy Marketing Company submits tariff filing per 35.12: Ameren Energy Marketing Company Market Based Rate Schedule to be effective 4/30/2010.

Filed Date: 04/30/2010.

Accession Number: 20100430-5071.

Comment Date: 5 p.m. Eastern Time on Friday, May 21, 2010.

Docket Numbers: ER10-1141-000.

Applicants: Ameren Energy Generating Company.

Description: Ameren Energy Generating Company submits tariff filing per 35.12: Ameren Energy Generating Company General Tariff to be effective 5/3/2010.

Filed Date: 04/30/2010.

Accession Number: 20100430-5099.

Comment Date: 5 p.m. Eastern Time on Friday, May 21, 2010.

Docket Numbers: ER10-1142-000.

Applicants: FirstEnergy Generation Corp.

Description: FirstEnergy Generation Corp. submits tariff filing per 35.12: Market-Based Power Sales tariff to be effective 4/1/2010.

Filed Date: 04/30/2010.

Accession Number: 20100430-5109.

Comment Date: 5 p.m. Eastern Time on Friday, May 21, 2010.

Docket Numbers: ER10-1143-000.

Applicants: PECO Energy Company.

Description: PECO Energy Company submits tariff filing per 35.12: PECO Energy Company MBR to be effective 4/30/2010.

Filed Date: 04/30/2010.

Accession Number: 20100430-5110.

Comment Date: 5 p.m. Eastern Time on Friday, May 21, 2010.

Docket Numbers: ER10-1144-000.

Applicants: Exelon Generation Company, LLC.

Description: Exelon Generation Company, LLC submits tariff filing per 35.12: Exelon Generation, LLC Vol 1 to be effective 4/30/2010.

Filed Date: 04/30/2010.

Accession Number: 20100430-5111.

Comment Date: 5 p.m. Eastern Time on Friday, May 21, 2010.

Docket Numbers: ER10-1145-000.

Applicants: Exelon Generation Company, LLC.

Description: Exelon Generation Company, LLC submits tariff filing per 35.12: Exelon Generation, LLC Vol 2 to be effective 4/30/2010.

Filed Date: 04/30/2010.

Accession Number: 20100430-5113.

Comment Date: 5 p.m. Eastern Time on Friday, May 21, 2010.

Docket Numbers: ER10-1146-000.

Applicants: New England Power Pool.

Description: New England Power Pool Participants Committee submits transmittal letter along with counterpart signature pages of the NEPOOL Agreement, dated as of 9/1/71.

Filed Date: 04/30/2010.

Accession Number: 20100430-0254.

Comment Date: 5 p.m. Eastern Time on Friday, May 21, 2010.

Docket Numbers: ER10-1147-000.

Applicants: PJM Interconnection, LLC.

Description: PJM Interconnection, LLC submits an executed interconnection service agreement entered into among PJM et al.

Filed Date: 04/30/2010.

Accession Number: 20100430-0255.

Comment Date: 5 p.m. Eastern Time on Friday, May 21, 2010.

Docket Numbers: ER10-1149-000.

Applicants: Florida Power & Light Company.

Description: Florida Power and Light Company submits revised tariff sheets for their Open Access Transmission Tariff.

Filed Date: 04/30/2010.

Accession Number: 20100430-0224.

Comment Date: 5 p.m. Eastern Time on Friday, May 21, 2010.

Docket Numbers: ER10-1151-000.

Applicants: AmerenEnergy Resources Generating Company.

Description: AmerenEnergy Resources Generating Company submits tariff filing per 35.12: AmerenEnergy Resources Generating Company General Tariff to be effective 5/3/2010.

Filed Date: 04/30/2010.

Accession Number: 20100430-5277.

Comment Date: 5 p.m. Eastern Time on Friday, May 21, 2010.

Docket Numbers: ER10-1152-000.

Applicants: PJM Interconnection, LLC.

Description: Allegheny Power submits FERC Electric Tariff, Sixth Revised Volume No. 1.

Filed Date: 04/30/2010.

Accession Number: 20100430-0239.

Comment Date: 5 p.m. Eastern Time on Friday, May 21, 2010.

Docket Numbers: ER10-1153-000.

Applicants: Consolidated Edison Company of New York.

Description: Consolidated Edison Co of New York, Inc submits an amendment to the Delivery Service Rate Schedule No. 96.

Filed Date: 04/30/2010.

Accession Number: 20100430-0244.

Comment Date: 5 p.m. Eastern Time on Friday, May 21, 2010.

Docket Numbers: ER10-1154-000.

Applicants: Buy Energy Direct, LLC.

Description: Buy Energy Direct, LLC submits a Petition for Acceptance of Initial Rate Schedule, Waivers and Blanket Authority.

Filed Date: 04/30/2010.

Accession Number: 20100430-0243.

Comment Date: 5 p.m. Eastern Time on Friday, May 21, 2010.

Docket Numbers: ER10-1155-000.

Applicants: PacifiCorp.

Description: PacifiCorp submits updated Exhibit 1 to First Revised Rate Schedule No. 302 etc.

Filed Date: 04/30/2010.

Accession Number: 20100430-0242.

Comment Date: 5 p.m. Eastern Time on Friday, May 21, 2010.

Docket Numbers: ER10-1156-000.

Applicants: Conectiv Delmarva Generation, Inc.

Description: Conectiv Delmarva Generation, Inc submits the proposed FERC Electric Tariff, Original Volume No. 2.

Filed Date: 04/30/2010.

Accession Number: 20100430-0241.

Comment Date: 5 p.m. Eastern Time on Friday, May 21, 2010.

Docket Numbers: ER10-1157-000.

Applicants: Duke Energy Carolinas, LLC.

Description: Duke Energy Carolinas, LLC submits Network Integration Transmission Service Agreements.

Filed Date: 04/30/2010.

Accession Number: 20100430-0240.

Comment Date: 5 p.m. Eastern Time on Friday, May 21, 2010.

Docket Numbers: ER10-1158-000.

Applicants: PacifiCorp.

Description: PacifiCorp submits Interim Interconnection Agreement etc.

Filed Date: 04/30/2010.

Accession Number: 20100430-0245.

Comment Date: 5 p.m. Eastern Time on Friday, May 21, 2010.

Docket Numbers: ER10-1159-000.

Applicants: San Diego Gas & Electric Company.

Description: San Diego Gas & Electric Company submits tariff filing per 35.12: San Diego Gas & Electric Company Transmission Owner Tariff Volume No. 11 to be effective 5/3/2010.

Filed Date: 05/03/2010.

Accession Number: 20100503-5005.

Comment Date: 5 p.m. Eastern Time on Monday, May 24, 2010.

Docket Numbers: ER10-1168-000.

Applicants: San Diego Gas & Electric Company.

Description: San Diego Gas & Electric Company submits tariff filing per 35.12: San Diego Gas & Electric Company Market Based Rate Tariff, Volume No. 10 to be effective 5/3/2010.

Filed Date: 05/03/2010.

Accession Number: 20100503-5006.

Comment Date: 5 p.m. Eastern Time on Monday, May 24, 2010.

Docket Numbers: ER10-1169-000.

Applicants: San Diego Gas & Electric Company.

Description: San Diego Gas & Electric Company submits tariff filing per 35.12: San Diego Gas & Electric Company Wholesale Distribution Access Tariff, Volume 6 to be effective 5/3/2010.

Filed Date: 05/03/2010.

Accession Number: 20100503-5007.

Comment Date: 5 p.m. Eastern Time on Monday, May 24, 2010.

Take notice that the Commission received the following electric securities filings:

Docket Numbers: ES10-39-000.

Applicants: PHI Service Company.

Description: Application of PHI Service Company.

Filed Date: 04/30/2010.

Accession Number: 20100430-5339.

Comment Date: 5 p.m. Eastern Time on Friday, May 21, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-11090 Filed 5-10-10; 8:45 am]

BILLING CODE 6717-01-P